NATIONAL AERONAUTICS AND SPACE ADMINISTRATION

[Notice (09-097)]

NASA Advisory Council; Science Committee; Planetary Science Subcommittee; Meeting.

AGENCY: National Aeronautics and Space Administration.

ACTION: Notice of meeting.

SUMMARY: The National Aeronautics and Space Administration (NASA) announces a meeting of the Planetary Science Subcommittee of the NASA Advisory Council (NAC). This Subcommittee reports to the Science Committee of the NAC. The Meeting will be held for the purpose of soliciting from the scientific community and other person's scientific and technical information relevant to program planning.

DATES: Thursday, December 3, 2009, 8:30 a.m. to 5:30 p.m., and Friday, December 4, 2009, 8:30 a.m. to 12:30 p.m. MST.

ADDRESSES: University of Colorado, Laboratory for Atmospheric and Space Physics, Conference Room A200, 1234 Innovation Drive, Boulder, CO 80303.

FOR FURTHER INFORMATION CONTACT: Ms. Marian Norris, Science Mission Directorate, NASA Headquarters, Washington, DC 20546, (202) 358-4452, fax (202) 358-4118, or mnorris@nasa.gov.

SUPPLEMENTARY INFORMATION: The meeting will be open to the public up to the capacity of the room. The agenda for the meeting includes the following topics:

—Planetary Science Division Update

—Mars Exploration Program Update

—Analysis Group Reports

—Review and Assessment of Current Process for Adding Co-Investigators and Interdisciplinary Scientists to Long-Duration Missions

—Status and Future of the Planetary Data System

It is imperative that the meeting be held on these dates to accommodate the scheduling priorities of the key participants. Attendees will be requested to sign a register.

Dated: November 12, 2009.
P. Diane Rausch,
Advisory Committee Management Officer, National Aeronautics and Space Administration and Space Administration.

[FR Doc. E9-27626 Filed 11-17-09; 8:45 am]

BILLING CODE P